COMMODITY FUTURE TRADING COMMISSION

Sunshine Act Meetings

Agency: Commodity Futures Trading Commission.

Time and Date: 11 a.m., Friday, December 19, 2003.

Place: 1155 21st St., NW., Washington, DC, Room 1012.

Status: Closed.

Matters to be Considered: Surveillance Matters.

FOR FURTHER INFORMATION CONTACT: Jean A. Webb, 202-418-5100.

Jean A. Webb,
Secretary of the Commission.

[FR Doc. 03-29041 Filed 11-17-03; 1:59 pm]

BILLING CODE 6351-01-M